DEPARTMENT OF THE INTERIOR

National Park Service

CORRECTION—Notice of Inventory Completion for Native American Human Remains and Associated Funerary Objects in the Possession of the U.S. Department of the Interior, National Park Service, Effigy Mounds National Monument, Harpers Ferry, IA

AGENCY: National Park Service, Interior

ACTION: Correction

Notice is hereby given in accordance with provisions of the Native American Graves Protection and Repatriation Act (NAGPRA), 43 CFR 10.9, of the completion of an inventory of human remains and associated funerary objects in the possession of the U.S. Department of the Interior, National Park Service, Effigy Mounds National Monument, Harpers Ferry, IA.

This notice is published as part of the National Park Service's administrative responsibilities under NAGPRA, 43 CFR 10.2 (c). The determinations within this notice are the sole responsibility of the National Park Service unit that has control or possession of these Native American human remains and associated funerary objects. The Assistant Director, Cultural Resources Stewardship and Partnerships is not responsible for the determinations within this notice.

On March 9, 2001, the National Park Service published a Notice of Inventory Completion in the Federal Register for 15 Native American human remains and 3 associated funerary objects in the possession of Effigy Mounds National Monument. The notice incorrectly listed 12 human remains and 3 associated funerary objects recovered from Mound #57 as culturally affiliated with the Iowa Tribe of Kansas and Nebraska; Iowa Tribe of Oklahoma; Otoe-Missouria Tribe of Indians, Oklahoma; Ho-Chunk Nation of Wisconsin; Winnebago Tribe of Nebraska; Upper Sioux Indian Community of the Upper Sioux Reservation, Minnesota; Shakopee Mdewakanton Sioux Community of Minnesota (Prior Lake); Lower Sioux Indian Community of Minnesota Mdewakanton Sioux Indians of the Lower Sioux Reservation in Minnesota; and Prairie Island Indian Community of Minnesota Mdewakanton Sioux Indians of the Prairie Island Reservation, Minnesota. Based on additional information, the superintendent of Effigy Mounds National Monument determined that the 12 human remains and 3 associated funerary objects recovered from Mound #57 are culturally unidentifiable.

The Notice of Inventory Completion published by Effigy Mounds National Monument on March 9, 2001 (Federal Register Document 01-5944, pages 14201-14203) is corrected as follows:

The third paragraph is deleted.

The first sentence of the ninth paragraph is corrected to read: “Based on the above-mentioned information, the Effigy Mounds National Monument superintendent has determined that, pursuant to 43 CFR 10.2 (d)(1), the human remains listed above represent the physical remains of three individuals of Native American ancestry.”

The second sentence of the ninth paragraph is deleted.

This correction has been sent to officials of the Iowa Tribe of Kansas and Nebraska; Iowa Tribe of Oklahoma; Otoe-Missouria Tribe of Indians, Oklahoma; Ho-Chunk Nation of Wisconsin; Sac and Fox Tribe of the Mississippi in Iowa; Sac and Fox Nation of Missouri in Kansas and Nebraska; Sac and Fox Nation, Oklahoma; Winnebago Tribe of Nebraska; Upper Sioux Indian Community of the Upper Sioux Reservation, Minnesota; Shakopee Mdewakanton Sioux Community of Minnesota; Lower Sioux Indian Community of Minnesota Mdewakanton Sioux Indians of the Lower Sioux Reservation in Minnesota; and Prairie Island Indian Community of Minnesota Mdewakanton Sioux Indians of the Prairie Island Reservation, Minnesota.

Repatriation of the three other human remains listed in the March 9, 2001, Notice of Inventory Completion is not affected by this correction.

Dated: September 12, 2001
John Robbins,
Assistant Director, Cultural Resources Stewardship and Partnerships.

[FR Doc. 02-6634 Filed 3-19-01; 8:45 am]

BILLING CODE 4310-70-S